DEPARTMENT OF JUSTICE

Notice of Lodging Consent Decree Under the Comprehensive Environmental Response, Compensation, and Liability Act

Notice is hereby given that on July 9, 2007, a proposed RD/RA Consent Decree (“Consent Decree”) in United States and State of Utah v. Kennecott Utah Copper Corporation, Civil Action No. 2:07cv00485 was lodged with the United States District Court for the District of Utah.

The Consent Decree resolves claims by the United States and the State of Utah against Kennecott Utah Copper Corporation (“KUCC”) under Sections 106 and 107 of the Comprehensive Environmental Response, Compensation, and Liability Act (“CERCLA”), 42 U.S.C. 106 and 107, for past response costs incurred at the groundwater Operable Unit 2 portion of the Kennecott South Zone Site, in Salt Lake County, Utah. The Consent Decree will require KUCC to perform response actions at the Kennecott South Zone Site consistent with the National Contingency Plan, 40 CFR par 300 (as amended) and will require KUCC to pay the United States $5,007,200.16 in past response costs and also pay the United States' future response costs. The Consent Decree includes convenants not to sue by the United States: (1) Pursuant to Sections 106 and 107(a) of CERCLA, 42 U.S.C. 9606 and 9607(a), and Section 7003 of RCRA, 42 U.S.C. 6973, relating to the Operable Unit 2 portion of the Kennecott South Zone Site or the activities KUCC completes under the Consent Decree; and (b) pursuant to Section 107 of CERCLA, 42 U.S.C. 9607, for all past costs that the United States incurred at or in connection with the Kennecott South Zone Site or Kennecott North Zone Site, including but not limited to the OU2 Site, through November 15, 2005.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Utah v. Kennecott Utah Copper Corporation, D.J. Ref.90-11-2-07195/3. Commenters may request an opportunity for a public meeting in the vicinity of West Jordan, Utah, in accordance with Section 7003(d) of RCRA, 42 U.S.C. 6973(d).

The Consent Decree may be examined at the Office of the United States Attorney, 185 South State Street, Suite 400, Salt Lake City, Utah 84111 and at U.S. EPA Region 8, 1595 Wynkoop Street, Denver, CO 80202-1129. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov, fax no. (202) 514-0097, phone confirmation number (202) 514-1547. In requesting a copy of the consent decree and all appendices from the Consent Decree Library, please enclose a check in the amount of $69.00 payable to the U.S. Treasury or, if by e-mail or fax, forward a check in that amount to the Consent Decree Library at the stated address. In requesting a copy exclusive of exhibits, please enclose a check in the amount of $25.25 payable to the U.S. Treasury.

Maureen Katz,
Assistant Chief, Environmental Enforcement Section, Environment and Natural Resources Division.

[FR Doc. 07-3495 Filed 7-18-07; 8:45 am]

BILLING CODE 4410-15-M